Title 3—

The President

Proclamation 8692 of July 15, 2011

Captive Nations Week, 2011

By the President of the United States of America

A Proclamation

There are times in the course of history when the actions of ordinary people yearning for freedom ignite the desires of people everywhere. Such brave actions led to the birth of our Nation, the fall of the Soviet Union, and countless other achievements that have shaped our world. During Captive Nations Week, we remember the men and women throughout the world still suffering under oppressive regimes, and we underscore our commitment to advancing freedom’s cause.

President Dwight D. Eisenhower issued the first Captive Nations Week Proclamation in 1959 amidst an escalating Cold War, affirming America’s support for the individual liberties of those living under Communist oppression. Our world has transformed dramatically since President Eisenhower first proclaimed Captive Nations Week. The burst of freedom following the fall of the Berlin Wall and the collapse of the Soviet Union led to the emergence of new democracies that are now steadfast allies of the United States and key contributors to the expansion of human rights worldwide.

With each generation, people have breathed new life into democratic ideals, striving for personal freedom, political and economic reform, and justice. The United States stands firmly behind all those who seek to exercise their basic human rights. We will continue to oppose the use of violence and repression and support the universal rights of freedom of religion, expression, and peaceful assembly; equality for men and women under the rule of law; and the right of people to choose their leaders.

This week, we rededicate ourselves to promoting democratic values, economic development, and respect for human dignity, and we express our solidarity with freedom-seeking people everywhere whose future reflects our greatest hope for peace.

The Congress, by joint resolution approved July 17, 1959 (73 Stat. 212), has authorized and requested the President to issue a proclamation designating the third week of July of each year as “Captive Nations Week.”

NOW, THEREFORE, I, BARACK OBAMA, President of the United States of America, do hereby proclaim July 17 through July 23, 2011, as Captive Nations Week. I call upon the people of the United States to reaffirm our deep commitment to all those working for human rights and dignity around the world.

IN WITNESS WHEREOF, I have hereunto set my hand this fifteenth day of July, in the year of our Lord two thousand eleven, and of the Independence of the United States of America the two hundred and thirty-sixth.

[FR Doc. 2011-18367

Filed 7-18-11; 11:15 am]

Billing code 3195-W1-P